POSTAL SERVICE BOARD OF GOVERNORS

Sunshine Act Meeting; Board Votes to Close March 12, 2009, Meeting

At its teleconference meeting on February 25, 2009, a majority of the members contacted and voting, the Board of Governors of the United States Postal Service voted unanimously to close to public observation its meeting scheduled for March 12, 2009, in Washington, DC. The Board determined that no earlier public notice was possible.

Items To Be Considered

1. Financial Matters.

2. Strategic Issues.

3. Pricing.

4. Personnel Matters and Compensation Issues.

5. Governors' Executive Session—Discussion of prior agenda items and Board Governance.

General Counsel Certification

The General Counsel of the United States Postal Service has certified that the meeting may be closed under the Government in the Sunshine Act.

FOR FURTHER INFORMATION CONTACT: Requests for information about the meeting should be addressed to the Secretary of the Board, Julie S. Moore, at 202-268-4800.

Julie S. Moore,
Secretary.

[FR Doc. E9-6332 Filed 3-18-09; 4:15 pm]

BILLING CODE 7710-12-P